DEPARTMENT OF COMMERCE

International Trade Administration

[A-533-840]

Certain Frozen Warmwater Shrimp From India: Notice of Final Results of Antidumping Duty Changed Circumstances Review

AGENCY: Enforcement and Compliance, International Trade Administration, Department of Commerce.

SUMMARY: On October 31, 2016, the Department of Commerce (the Department) initiated, and published the preliminary results of, the changed circumstances review of the antidumping duty order on certain frozen warmwater shrimp (shrimp) from India. In that notice, we preliminarily determined that Avanti Frozen Foods Private Limited (Avanti Frozen) is the successor-in-interest to Avanti Feeds Limited (Avanti Feeds) for purposes of determining antidumping duty cash deposits and liabilities. No interested party submitted comments on our preliminary results. Therefore, for these final results, the Department continues to find that Avanti Frozen is the successor-in-interest to Avanti Feeds.

DATES: Effective December 15, 2016.

FOR FURTHER INFORMATION CONTACT: E. Whitley Herndon, AD/CVD Operations, Office II, Enforcement and Compliance, International Trade Administration, U.S. Department of Commerce, 1401 Constitution Avenue NW., Washington, DC 20230; telephone: 202-482-6274.

SUPPLEMENTARY INFORMATION:

Background

On September 7, 2016, Avanti Frozen requested that the Department conduct an expedited changed circumstances review, pursuant to section 751(b) of the Tariff Act of 1930 (the Act), 19 CFR 351.216(b), and 19 CFR 351.221(c)(3), to confirm that Avanti Frozen is the successor-in-interest to Avanti Feeds for purposes of determining antidumping duty cash deposits and liabilities. In its submission, Avanti Frozen explained that Avanti Feeds underwent a business reorganization and transferred its shrimp business to its subsidiary company, Avanti Frozen.¹

¹ See Letter from Avanti Frozen entitled “Frozen Warmwater Shrimp form India: Request to Initiate a Successor-in-Interest Changed Circumstances Review,” dated September 7, 2016, at 2.

On October 31, 2016, the Department initiated this changed circumstances review and published the notice of preliminary results, determining that Avanti Frozen is the successor-in-interest to Avanti Feeds.² In the Initiation and Preliminary Results, we provided all interested parties with an opportunity to comment and request a public hearing regarding our preliminary finding that Avanti Frozen is the successor-in-interest to Avanti Feeds. We received no comments from interested parties

² See Certain Frozen Warmwater Shrimp from India: Initiation and Preliminary Results of Antidumping Duty Changed Circumstances Review, 81 FR 75376 (October 31, 2016) (Initiation and Preliminary Results).

Scope of the Order

The merchandise subject to the order is certain frozen warmwater shrimp.³ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

³ For a complete description of the Scope of the Order, see Certain Frozen Warmwater Shrimp From India: Final Results of Antidumping Duty Administrative Review; Final Determination of No Shipments; 2014-2015, 81 FR 62867 (September 13, 2016) (10th AR), and accompanying Issues and Decision Memorandum at “Scope.”

Final Results of Changed Circumstances Review

For the reasons stated in the Initiation and Preliminary Results, and because we received no comments from interested parties to the contrary, the Department continues to find that Avanti Frozen is the successor-in-interest to Avanti Feeds. As a result of this determination, we find that Avanti Frozen should receive the cash deposit rate previously assigned to Avanti Feeds in the most recently-completed review of the antidumping duty order on shrimp from India.⁴ Consequently, the Department will instruct U.S. Customs and Border Protection to suspend liquidation of all shipments of subject merchandise produced or exported by Avanti Frozen and entered, or withdrawn from warehouse, for consumption on or after the publication date of this notice in the Federal Register at 2.20 percent, which is the current antidumping duty cash-deposit rate for Avanti Feeds.⁵ This cash deposit requirement shall remain in effect until further notice.

⁴ See, e.g., Final Results of Antidumping Duty Changed Circumstances Review: Certain Circular Welded Non-Alloy Steel Pipe and Tube from Mexico, 74 FR 41681, 41682 (August 18, 2009).

⁵ Avanti Feeds was assigned a 2.20 percent dumping margin in the 2014-2015 administrative review of the AD order on shrimp from India. See 10th AR.

We are issuing this determination and publishing these final results and notice in accordance with sections 751(b)(1) and 777(i)(1) and (2) of the Act, as amended, and 19 CFR 351.216 and 351.221(c)(3).

Dated: December 8, 2016.
Paul Piquado,
Assistant Secretary for Enforcement and Compliance.

[FR Doc. 2016-30147 Filed 12-14-16; 8:45 am]

BILLING CODE 3510-DS-P